ENVIRONMENTAL PROTECTION AGENCY

[EPA-HQ-OPP-2007-0960; FRL-8150-5]

Pesticide Worker Protection; Notice of Public Meeting

AGENCY: Environmental Protection Agency (EPA).

ACTION: Notice.

SUMMARY: EPA's Office of Pesticide Programs will host two public meetings regarding pesticide worker protection issues in October. A Pesticide Worker Safety and Health Conference will be held on October 2-4, 2007, in Arlington, VA, at the Hilton Hotel in Crystal City. The conference will provide an informational forum for federal and state agencies and private sector organizations involved in pesticide worker safety and health programs, policies and research initiatives. The conference will also highlight the accomplishments of the Agency's worker protection initiatives in partnership with our grantees. On the afternoon of October 4, 2007, the Office of Pesticide Programs will host a Diagnostic Tools Workshop in Arlington, VA, at the Hilton Hotel in Crystal City. Because health care providers lack tests to identify specific chemicals and/or levels of exposure that may be linked to the reported illnesses, the goal of this Workshop is to gather information on critical diagnostic needs, the current state of the science, and research needs for and feasibility of developing diagnostic tools to identify exposure to a specific chemical/level.

DATES: The Pesticide Worker Safety and Health Conference will be held on October 2, 3, and 4, 2007, as follows: on October 2 from 1 p.m. to 6 p.m.; on October 3 from 8:30 a.m. to 5:30 p.m.; and on October 4 from 8:30 a.m. to noon. The Diagnostic Tools Workshop will be held on October 4, 2007, from 1:30 p.m. to 5:30 p.m.

To request accommodation of a disability, please contact the persons listed under FOR FURTHER INFORMATON CONTACT, preferably at least 10 days prior to the meeting, to give EPA as much time as possible to process your request.

ADDRESSES: The conference and workshop will be held at the Hilton Crystal City, 2399 Jefferson Davis Highway, Arlington, VA 22202.

FOR FURTHER INFORMATION CONTACT: Questions regarding the Pesticide Worker Safety and Health Conference should be referred to: Elizabeth Evans, Field and External Affairs Division (7506P), Office of Pesticide Programs, Environmental Protection Agency, 1200 Pennsylvania Ave., NW., Washington, DC 20460-0001; telephone number: (703) 305-7891; fax number: (703) 308-2962; e-mail address:worker_safety_health_conference@epa.gov.

Questions regarding the Diagnostic Tools Workshop should be referred to: Elizabeth Mendez, Health Effects Division (7509P), Office of Pesticide Programs, Environmental Protection Agency, 1200 Pennsylvania Ave., NW., Washington, DC 20460-0001; telephone number (703) 305-5453; fax number (703) 305-5147; e-mail address:Mendez.elizabeth@epa.gov.

SUPPLEMENTARY INFORMATION:

I. General Information

A. Does this Action Apply to Me?

You may be potentially affected by this action if you represent federal or state agencies or organizations which are involved or interested in pesticide worker safety and health programs, policies and research initiatives. Potentially affected entities may include, but are not limited to:

Federal and state agencies, organizations and other stakeholders interested in pesticide worker safety and health programs, policies and research initiatives, including, but not limited to: Environmental occupational health and safety specialists, health care providers, epidemiologists, state departments of health, poison control centers, migrant clinicians, federal agencies, state lead agencies, grower organizations, and farmworker organizations.

B. How Can I Get Copies of this Document and Other Related Information?

1. Docket. EPA has established a docket for this action under docket ID number EPA-HQ-OPP-2007-0960. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of the Docket Facility are 8:30 a.m. to 4 p.m., Monday through Friday, excluding legal holidays. The Docket Facility telephone number is (703) 305-5805.

2. Electronic access. You may access this Federal Register document electronically through the EPA Internet under the “Federal Register” listings at http://www.epa.gov/fedrgstr.

II. Background & Agendas

A. Pesticide Worker Safety and Health Conference

This Conference will focus on measuring the impact of current worker protection initiatives and developing effective interventions where protective gaps exist. The conference will also highlight the accomplishments of the Agency's worker protection initiatives in partnership with our grantees. Breakout sessions are planned for Wednesday, October 3 with expert presentations and panel discussions on: Take-home pesticide exposure and families of farmworkers; advances in engineering controls; education and training of farmworkers and pesticide applicators; administrative and policy solutions to better protect the pesticide workforce; risk communication strategies and lessons learned; the role of surveillance of occupational pesticide-related illnesses and injuries; worker exposure assessment, strengths and weaknesses in data collection.

B. Diagnostic Tools Workshop

One of the major challenges faced by health care professionals in the diagnosis and treatment of ailments associated with pesticide exposure is the lack of tests to identify specific chemicals and/or levels of exposure that may be linked to the reported illnesses. As a result, there is increasing interest in the development of more sophisticated diagnostic tools to help clinicians diagnose and prescribe effective courses of treatment. The goal of the Diagnostic Tools Workshop is to gather information on critical diagnostic needs, the current state of the science, and the research needs for and feasibility of developing diagnostic tools to identify exposure to a specific chemical/level.

Planned agendas for both the Pesticide Worker Safety and Health Conference and the Diagnostic Tools Workshop are posted on the website at: www.epa.gov/pesticides.

III. How Can I Request to Participate in these Meetings?

Both of these meetings are open to the public. Persons interested in attending the Pesticide Worker Safety and Health Conference should go to EPA's website to register (at no cost) at: www.epa.gov/pesticides. The Diagnostic Tools Workshop is open to the public and seating is available on a first-come basis.

List of Subjects

Environmental protection, Pesticide worker safety, Farmworker.

Dated: September 17, 2007.
William R. Diamond,
Director, Field and External Affairs Division, Office of Pesticide Programs.

[FR Doc. E7-18706 Filed 9-20-07 8:45 am]

BILLING CODE 6560-50-S